DEPARTMENT OF THE TREASURY

Internal Revenue Service

26 CFR Part 301

[TD 9478]

RIN 1545-BI86

Amendments to the Section 7216 Regulations—Disclosure or Use of Information by Preparers of Returns; Correction

AGENCY: Internal Revenue Service (IRS), Treasury.

ACTION: Correction to final and temporary regulations.

SUMMARY: This document contains a correction to final and temporary regulations (TD 9478) that were published in the Federal Register on Monday, January 4, 2010 (75 FR 48) providing rules relating to the disclosure and use of tax return information by tax return preparers.

FOR FURTHER INFORMATION CONTACT: Molly K. Donnelly, (202) 622-4940 (not a toll free number).

SUPPLEMENTARY INFORMATION:

Background

The final and temporary regulations (TD 9478) that are the subject of this correction are under section 7216 of the Internal Revenue Code.

Need for Correction

As published, the final and temporary regulations (TD 9478) contain an error that may prove to be misleading and is in need of clarification.

Correction of Publication

Accordingly, the final and temporary regulations (TD 9478), that are the subject of FR Doc. E9-31115, are corrected as follows:

On page 48, column 2, under the paragraph heading “Background”, line 15 from the bottom of the paragraph, the language “are being made following the issuance” is corrected to read “is being made following the issuance”.

LaNita VanDyke,
Chief, Publications and Regulations Branch, Legal Processing Division, Associate Chief Counsel (Procedure and Administration).

[FR Doc. 2010-2611 Filed 2-5-10; 8:45 am]

BILLING CODE 4830-01-P